DEPARTMENT OF THE INTERIOR

Fish and Wildlife Service

[FWS-R8-ES-2018-N016; FF08ESMF00-FXES11140800000-189]

Habitat Conservation Plan for South Sacramento County, California; Final Joint Environmental Impact Statement/Environmental Impact Report

AGENCY: Fish and Wildlife Service, Interior.

ACTION: Notice of availability.

SUMMARY: We, the U.S. Fish and Wildlife Service (Service), announce the availability of a final Environmental Impact Report/Environmental Impact Statement (EIS/EIR) that evaluates the effects of issuing a 50-year incidental take permit (ITP or Permit) under the Endangered Species Act of 1973, as amended, for 28 species covered under the final South Sacramento Habitat Conservation Plan (SSHCP, or Plan). The final EIS/EIR and the final SSHCP documents reflect changes resulting from comments received during a 90-day public review of the draft EIS/EIR and the draft SSHCP. This notice provides an opportunity for the public to review the responses to comments and review the final documents.

DATES: A Record of Decision on the ITP application will be signed no sooner than 30 days after the Environmental Protection Agency's notice in the Federal Register announcing receipt of this final EIS/EIR. We will accept written comments on the final EIS/EIR or the final SSHCP documents that are received or postmarked on or before June 14, 2018.

ADDRESSES: You may obtain the final documents by one of the following methods:

• Internet: You may download electronic copies of the final EIS/EIR and the final HCP document from the SSHCP website at http://www.southsachcp.com, or from the Sacramento County Project Viewer website at https://planningdocuments.saccounty.net/ViewProjectDetails.aspx?ControlNum=2003-0637.

• U.S. Mail: CD-ROMs of the final EIR/EIS and the final SSHCP are available, by request, from the County Environmental Coordinator, at the County of Sacramento, Office of Planning and Environmental Review, 827 7th Street, Room 225, Sacramento, CA 95814; or by email at SSHCP@saccounty.net; or by phone at (916) 874-6141. Please note that your request is in reference to the SSHCP.

• In-Person: Hardbound copies of the final EIR/EIS and the final SSHCP documents are also available for public inspection and review at the following locations, during normal business hours:

○ Sacramento Fish and Wildlife Office, 2800 Cottage Way, Room W-2605, Sacramento CA 95825.

○ County of Sacramento, 827 7th Street, Room 225, Sacramento, CA 95814.

○ Sacramento Public Library, Central Library, 828 I Street, Sacramento, CA 95814.

You may submit written comments on the final documents by one of the following methods:

• Electronically: Submit via email to: SSHCP@saccounty.net, and include “Final SSHCP” in the subject line,

• By hard copy: (1) Submit by U.S. mail to: County Environmental Coordinator, at the County of Sacramento address above, or call (916) 874-6141 to make an appointment during regular business hours to drop off written comments at that location; or (2) submit by U.S. mail to Jan C. Knight, Deputy Field Supervisor, at the Sacramento Fish and Wildlife Office address above, or by facsimile to (916) 414-6714, or call (916) 414-6700 to make an appointment during regular business hours to drop off written comments at that location.

FOR FURTHER INFORMATION CONTACT: (1) Contact Nina Bicknese, Endangered Species Division, or Jan C. Knight, Deputy Field Supervisor, at the Sacramento Fish and Wildlife Office address shown above, or at (916) 414-6700 (telephone) for information on the SSHCP EIS/EIR. If you use a telecommunications device for the deaf, please call the Federal Relay Service at (800) 877-8339, or (2) contact Marianne Biner, Senior Planner, at the County of Sacramento address shown above, or at (916) 874-6141 for information on the final SSHCP EIS/EIR.; or (3) Kim Hudson, Senior Planner, at the County of Sacramento address shown above, or at (916) 874-5849 for information on the final SSHCP and associated documents.

SUPPLEMENTARY INFORMATION: This notice announces the availability of the final SSHCP, prepared by the Permit Applicants in compliance with section 10(c) of the Endangered Species Act of 1973 (16 U.S.C. 1531-1544; ESA). This notice also announces the availability of the final EIS/EIR for the SSHCP (final EIS/EIR or final SSHCP EIS/EIR), prepared pursuant to the National Environmental Policy Act of 1970 as amended (42 U.S.C. 4321 et seq.; NEPA) and its implementing regulations (40 CFR 1500-1508), and also prepared pursuant to the California Environmental Quality Act (CEQA). We have prepared a joint EIS/EIR due to the combined local, State, and Federal discretionary actions and permits that are associated with the SSHCP. The co-lead agencies for the final SSHCP EIS/EIR are Sacramento County, pursuant to CEQA, and the Service, pursuant to NEPA. The cooperating agencies for the EIS/EIR are the U.S. Army Corps of Engineers, the U.S. Environmental Protection Agency, and the California Department of Fish and Wildlife. With this notice, we continue the NEPA process, which included a notice in the Federal Register on June 2, 2017 (82 FR 25612), in which we announced the availability of the draft EIS/EIR and the draft SSHCP for public comment.

Background

Under section 10(a)(1)(B) of the ESA, the Service may issue permits to authorize “incidental take” of listed animal species, which the ESA defines as take that is incidental to, and not the purpose of, the carrying out of otherwise lawful activities. Take of listed fish and wildlife is defined under the ESA as to “harass, harm, pursue, hunt, shoot, wound, kill, trap, capture, or collect, or to attempt to engage in any such conduct” (16 U.S.C. 1538). Harm includes significant habitat modification or degradation that results in death or injury to listed wildlife species by significantly impairing essential behavioral patterns, including breeding, feeding, or sheltering (50 CFR 17.3).

In addition to meeting other criteria, activities covered by an incidental take permit must not jeopardize the continued existence in the wild of federally listed wildlife or plants. Although take of listed plant species is not prohibited under the ESA, plant species may be included on an incidental take permit in recognition of the conservation benefits provided to them by a habitat conservation plan. All species included on an incidental take permit would receive assurances under the Service's “No Surprises” regulation [50 CFR 17.22(b)(5) and 17.32(b)(5)]. For more about the Federal HCP program, go to https://www.fws.gov/endangered/what-we-do/hcp-overview.html. Regulations governing incidental take permits for threatened and endangered species are at 50 CFR 17.32 and 17.22, respectively.

We propose to issue a 50-year permit for the incidental take of 28 covered species caused by future urban development, transportation, and infrastructure projects described in the General Plans of Sacramento County, the City of Rancho Cordova, and City of Galt, and would be permitted or authorized by the County of Sacramento, the City of Galt, the City of Rancho Cordova, the Sacramento County Water Agency, or the Capital SouthEast Connector Joint Powers Authority (together, the Permit Applicants. The Permit Applicants are also forming a Joint Powers Authority (JPA) to be named the South Sacramento Conservation Agency, which would implement the SSHCP after it is approved and permitted. Following the formation of the South Sacramento Conservation Agency JPA, we anticipate that the Permit Applicants will submit an application to the Service to add the JPA to the incidental take permit.

The proposed SSHCP is a regional strategy that would assure the permanent conservation of 28 covered species and their habitats within a 317,656-acre Plan Area, and would provide a comprehensive approach to the protection and long-term management of the relatively undisturbed vernal pool ecosystems that remain in the Plan Area. The SSHCP covered species include the federally endangered vernal pool tadpole shrimp (Lepidurus packardi), the threatened vernal pool fairy shrimp (Branchinecta lynchi), the threatened Valley elderberry longhorn beetle (Desmocerus californicus dimorphus), the threatened California tiger salamander (Ambystoma californiense), the threatened giant garter snake (Thamnophis gigas), the endangered Sacramento Orcutt grass (Orcuttia viscida), the threatened slender Orcutt grass (Orcuttia tenuis), as well as 21 unlisted species that have potential to become listed during the proposed permit term. Incidental take authorization for an unlisted SSHCP covered species would become effective concurrent with its listing under the ESA, should listing occur during the permit term.

The proposed SSHCP would also provide a more streamlined and a more predictable process for Federal and State permitting of urban development and infrastructure covered activities within the SSHCP Plan Area. All SSHCP covered activities would incorporate measures that avoid or minimize the impacts of the incidental take to the maximum extent practicable. In total, the proposed SSHCP covered activities could result in the development and unavoidable loss of up to 33,639 acres of natural landcovers and species habitat present within the Plan Area. These losses would be mitigated by implementation of the SSHCP conservation strategy, which includes the establishment of a minimum 34,494-acre interconnected preserve system in south Sacramento County, and the re-establishment or establishment of at least 1,787 acres of aquatic habitat, to provide a total SSHCP Preserve System of 36,281 acres. The entire SSHCP Preserve System would be preserved, monitored, and managed in perpetuity for the benefit of the covered species and their natural habitats. The issuance of the ITP is conditioned on the final SSHCP meeting all criteria in section 10(a)(2)(B) of the ESA.

National Environmental Policy Act Compliance

We published an initial notice of intent (NOI) to prepare a draft SSHCP EIS/EIR in the Federal Register on Wednesday, June 10, 2008 (73 FR 32729), published a revised NOI on November 4, 2013 (78 FR 66058), and we published the notice of availability (NOA) of the draft SSHCP EIS/EIR on June 2, 2017 (82 FR 25612), which included a 90-day public comment period.

The final SSHCP EIS/EIR studies three alternatives: The No Action Alternative, the Proposed Action Alternative, and the Reduced Permit Term Alternative. The Service has identified the Proposed Action Alternative as the preferred alternative. We received 26 comment letters on the draft EIS/EIR and the draft SSHCP. A response to each comment received in these letters has been included in the final EIS/EIR document. Minor revisions to the final EIS/EIR or to the final SSHCP have been made to address the comments received on the draft documents. The descriptions and analysis of the three SSHCP alternatives studied in the final EIS/EIR generally remain the same as presented in the draft EIS/EIR.

Public Review

Copies of the final EIS/EIR and the final SSHCP documents are available (see ADDRESSES) for a 30-day public review period (see DATES). If you wish to comment on the final documents, you may submit your comments to the address provided in ADDRESSES. Before including your address, phone number, email address, or other personal identifying information in your comment, you should be aware that your entire comment—including your personal identifying information—may be made publicly available at any time. While you may ask us in your comment to withhold your personal identifying information from public review, we cannot guarantee that we will be able to do so.

Next Steps

We will evaluate the incidental take permit application, the associated documents, and any public comments submitted during the final EIS/EIR review period to determine whether the permit application meets all requirements of section 10(a) of the ESA. The Service will then prepare a concise public record of our decision (the Record of Decision). Our permit decision will be made no sooner than 30 days after the publication of the Environmental Protection Agency's notice of this final EIS/EIR in the Federal Register. After they are completed and signed, the Record of Decision and the incidental take permit will be available on our web page at https://www.fws.gov/sacramento.

Michael Long,
Acting Assistant Regional Director, U.S. Fish and Wildlife Service, Pacific Southwest Region, Sacramento, California.

[FR Doc. 2018-10306 Filed 5-14-18; 8:45 am]

BILLING CODE 4333-15-P